DEPARTMENT OF AGRICULTURE

Submission for OMB Review; Comment Request

March 3, 2005.

The Department of Agriculture has submitted the following information collection requirement(s) to OMB for review and clearance under the Paperwork Reduction Act of 1995, Public Law 104-13. Comments regarding (a) whether the collection of information is necessary for the proper performance of the functions of the agency, including whether information will have practical utility; (b) the accuracy of the agency's estimate of burden including the validity of the methodology and assumptions used; (c) ways to enhance the quality, utility and clarity of the information to be collected; (d) ways to minimize the burden of the collection of information on those who are respond, including through the use of appropriate automated, electronic, mechanical, or other technological collection techniques or other forms of information technology should be addressed to: Desk Officer for Agriculture, Office of Information and Regulatory Affairs, Office of Management and Budget (OMB), Pamela_Beverly_OIRA_Submission@omb.eop.gov or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to collection of information unless it displays a currently valid OMB control number.

Food and Nutrition Service

Title: Food Coupon Deposit Document.

OMB Control Number: 0584-0314.

Summary of Collection: Section 10 of the Food Stamp Act of 1977, as amended, (7 U.S.C. 2011 et seq.) requires the U.S. Department of Agriculture to issue regulations that provide for the redemption, through financial institutions, of food coupons accepted by retail food stores from program participants. Form FNS-521—Food Coupon Deposit Document (FCDD), is currently used in the Food Stamp Program by banks and financial institutions to redeem food stamp benefits from authorized retailers and to monitor the authorization of firms for compliance and continued eligibility in the Food Stamp Program.

Need and Use of the Information: The Food and Nutrition Service (FNS) will collect information to track deposits of food coupons. All financial institutions use the FCDD when they deposit food coupons at Federal Reserve Banks (FRBs). The information to be collected is the name, address, and unique check routing code of each financial institution that deposits food coupons on the face of every FCDD. Without the FCDD, no vehicle would exist for financial institutions, the FRB's and the FNS to track deposits of food coupons.

Description of Respondents: Business or other for-profit.

Number of Respondents: 10,000.

Frequency of Responses: Reporting on occasion.

Total Burden Hours: 176.

Ruth Brown,
Departmental Information Collection Clearance Officer.

[FR Doc. 05-4538 Filed 3-8-05; 8:45 am]

BILLING CODE 3410-30-M